INTERNATIONAL TRADE COMMISSION

[USITC SE-13-005]

Government In the Sunshine Act Meeting Notice

AGENCY HOLDING THE MEETING: United States International Trade Commission.

TIME AND DATE: February 7, 2013 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-491-497 (Preliminary) (Frozen Warmwater Shrimp from China, Ecuador, India, Indonesia, Malaysia, Thailand, and Vietnam). The Commission is currently scheduled to transmit its determinations to the Secretary of Commerce on or before February 11, 2013; Commissioners' opinions are currently scheduled to be transmitted to the Secretary of Commerce on or before February 19, 2013.

5. Outstanding action jackets: None.

In accordance with Commission policy, subject matter listed above, not disposed of at the scheduled meeting, may be carried over to the agenda of the following meeting.

By order of the Commission.
Issued: January 29, 2013.
William R. Bishop,
Supervisory Hearings and Information Officer.

[FR Doc. 2013-02366 Filed 1-30-13; 4:15 pm]

BILLING CODE 7020-02-P